DEPARTMENT OF HOMELAND SECURITY

Federal Emergency Management Agency

[Docket ID FEMA-2014-0002; Internal Agency Docket No. FEMA-B-1448]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: October 31, 2014.
Roy E. Wright,
Deputy Associate Administrator for Mitigation, Department of Homeland Security, Federal Emergency Management Agency.

State and county | Location and case no. | Chief executive officer of community | Community map repository | Online location of letter of map revision | Effective date of modification | Community No.
Arizona:
Maricopa | Unincorporated areas of Maricopa County (14-09-2380P) | The Honorable Denny Barney, Chairman, Maricopa County Board of Supervisors, 301 West Jefferson, 10th Floor, Phoenix, AZ 85003 | Maricopa County Flood Control District, 2801 West Durango Street, Phoenix, AZ 85009 | http://www.msc.fema.gov/lomc | December 19, 2014 | 040037
Mohave | Unincorporated areas of Mohave County (14-09-0137P) | The Honorable Hildy Angius, Chair, Mohave County Board of Supervisors, 700 West Beale Street, Kingman, AZ 86401 | Mohave County Administration Building, 700 West Beale Street, Kingman, AZ 86401 | http://www.msc.fema.gov/lomc | December 22, 2014 | 040058
Pinal | Town of Florence (13-09-2571P) | The Honorable Tom Rankin, Mayor, Town of Florence, P.O. Box 2670, Florence, AZ 85132 | Department of Public Works, 425 East Ruggles, Florence, AZ 85232 | http://www.msc.fema.gov/lomc | December 17, 2014 | 040084
Pinal | Unincorporated areas of Pinal County (13-09-2571P) | The Honorable Anthony Smith, Chairman, Pinal County Board of Supervisors, 41600 West Smith Enke Road, Suite 128, Maricopa, AZ 85138 | Pinal County, Engineering Department, 31 North Pinal Street, Building F, Florence, AZ 85232 | http://www.msc.fema.gov/lomc | December 17, 2014 | 040077
California:
Alameda | City of Fremont (14-09-0995P) | The Honorable Bill Harrison, Mayor, City of Fremont, 3300 Capitol Avenue, Fremont, CA 94538 | Development Services Center, 39550 Liberty Street, Fremont, CA 94538 | http://www.msc.fema.gov/lomc | December 29, 2014 | 065028
Alameda | City of Fremont (14-09-3370P) | The Honorable Bill Harrison, Mayor, City of Fremont, 3300 Capitol Avenue, Fremont, CA 94538 | Development Services Center, 39550 Liberty Street, Fremont, CA 94538 | http://www.msc.fema.gov/lomc | December 29, 2014 | 065028
Imperial | Unincorporated areas of Imperial County (14-09-3275P) | The Honorable John Renison, Chairman, Imperial County Board of Supervisors, 940 Main Street, Suite 209, El Centro, CA 92243 | Imperial County Public Works Department, 155 South 11th Street, El Centro, CA 92243 | http://www.msc.fema.gov/lomc | January 8, 2015 | 060065
Los Angeles | City of Palmdale (14-09-1102P) | The Honorable James C. Ledford, Jr., Mayor, City of Palmdale, 38300 Sierra Highway, Palmdale, CA 93550 | Public Works Department, 38300 Sierra Highway, Palmdale, CA 93550 | http://www.msc.fema.gov/lomc | January 8, 2015 | 060144
Ventura | City of Camarillo (14-09-2662P) | The Honorable Kevin Kildee, Mayor, City of Camarillo, 601 Carmen Drive, Camarillo, CA 93010 | Public Works Department, 601 Carmen Drive, Camarillo, CA 93010 | http://www.msc.fema.gov/lomc | December 18, 2014 | 065020
Ventura | Unincorporated areas of Ventura County (14-09-2662P) | The Honorable Steve Bennett, Chairman, Ventura County Board of Supervisors, 800 South Victoria Avenue, Ventura, CA 93009 | Ventura County Public Works Department, 800 South Victoria Avenue, Ventura, CA 93009 | http://www.msc.fema.gov/lomc | December 18, 2014 | 060413
Colorado:
Adams | City of Aurora (14-08-0672P) | The Honorable Steve Hogan, Mayor, City of Aurora, 15151 East Alameda Parkway, Aurora, CO 80012 | Engineering Department, 15151 East Alameda Parkway, Aurora, CO 80012 | http://www.msc.fema.gov/lomc | December 19, 2014 | 080002
Eagle | Town of Basalt (14-08-0868P) | The Honorable Jacque Whitsitt, Mayor, Town of Basalt, 101 Midland Avenue, Basalt, CO 81621 | Town Hall, 101 Midland Avenue, Basalt, CO 81621 | http://www.msc.fema.gov/lomc | November 28, 2014 | 080052
Eagle | Unincorporated areas of Eagle County (14-08-0868P) | The Honorable Jill Ryan, Chair, Eagle County Board of Commissioners, P.O. Box 850, Eagle, CO 81631 | Eagle County Building and Engineering Department, 500 Broadway Street, Eagle, CO 81631 | http://www.msc.fema.gov/lomc | November 28, 2014 | 080051
Larimer | City of Fort Collins (14-08-0580P) | The Honorable Karen Weitkunat, Mayor, City of Fort Collins, P.O. Box 580, Fort Collins, CO 80522 | Stormwater Utilities Department, 700 Wood Street, Fort Collins, CO 80521 | http://www.msc.fema.gov/lomc | December 15, 2014 | 080102
Larimer | Unincorporated areas of Larimer County (14-08-0580P) | The Honorable Tom Donnelly, Chairman, Larimer County Board of Commissioners, P.O. Box 1190, Fort Collins, CO 80522 | Larimer County Engineering Department, 200 West Oak Street, Fort Collins, CO 80521 | http://www.msc.fema.gov/lomc | December 15, 2014 | 080101
Florida:
Bay | Unincorporated areas of Bay County (13-04-8550P) | The Honorable Guy M. Tunnel, Chairman, Bay County Board of Commissioners, 840 West 11th Street, Panama City, FL 32401 | Bay County Planning And Zoning Department, 707 Jenks Avenue, Panama City, FL 32401 | http://www.msc.fema.gov/lomc | December 26, 2014 | 120004
Charlotte | Unincorporated areas of Charlotte County (14-04-5938P) | The Honorable Ken Doherty, Chairman, Charlotte County Board of Commissioners, 18500 Murdock Circle, Port Charlotte, FL 33948 | Charlotte County Community Development Department, 18500 Murdock Circle, Port Charlotte, FL 33948 | http://www.msc.fema.gov/lomc | January 5, 2015 | 120061
Collier | City of Marco Island (14-04-5224P) | The Honorable Kenneth E. Honecker, Chairman, Marco Island City Council, 50 Bald Eagle Drive, Marco Island, FL 34145 | City Hall, 50 Bald Eagle Drive, Marco Island, FL 34145 | http://www.msc.fema.gov/lomc | December 26, 2014 | 120426
Collier | City of Marco Island (14-04-5856P) | The Honorable Kenneth E. Honecker, Chairman, Marco Island City Council, 50 Bald Eagle Drive, Marco Island, FL 34145 | City Hall, 50 Bald Eagle Drive, Marco Island, FL 34145 | http://www.msc.fema.gov/lomc | December 11, 2014 | 120426
Duval | City of Atlantic Beach (14-04-0427P) | The Honorable Carolyn Woods, Mayor, City of Atlantic Beach, 800 Seminole Road, Atlantic Beach, FL 32233 | City Hall, 800 Seminole Road, Atlantic Beach, FL 32233 | http://www.msc.fema.gov/lomc | December 22, 2014 | 120075
Duval | City of Jacksonville (14-04-0427P) | The Honorable Alvin Brown, Mayor, City of Jacksonville, 117 West Duval Street, Jacksonville, FL 32202 | City Hall, 117 West Duval Street, Jacksonville, FL 32202 | http://www.msc.fema.gov/lomc | December 22, 2014 | 120077
Duval | City of Jacksonville (14-04-1465P) | The Honorable Alvin Brown, Mayor, City of Jacksonville, 117 West Duval Street, Jacksonville, FL 32202 | City Hall, 117 West Duval Street, Jacksonville, FL 32202 | http://www.msc.fema.gov/lomc | December 11, 2014 | 120077
Duval | City of Jacksonville (14-04-5239P) | The Honorable Alvin Brown, Mayor, City of Jacksonville, 117 West Duval Street, Jacksonville, FL 32202 | City Hall, 117 West Duval Street, Jacksonville, FL 32202 | http://www.msc.fema.gov/lomc | December 26, 2014 | 120077
Manatee | Unincorporated areas of Manatee County (14-04-8302P) | The Honorable Larry Bustle, Chairman, Manatee County Board of Commissioners, 1112 Manatee Avenue West, Bradenton, FL 34205 | Manatee County Building and Development Services Department, 1112 Manatee Avenue West, Bradenton, FL 34205 | http://www.msc.fema.gov/lomc | December 26, 2014 | 120153
Miami-Dade | City of Sunny Isles Beach (14-04-4655P) | The Honorable Norman S. Edelcup, Mayor, City of Sunny Isles Beach, 18070 Collins Avenue, Sunny Isles Beach, FL 33160 | Government Center, 18070 Collins Avenue, Sunny Isles Beach, FL 33160 | http://www.msc.fema.gov/lomc | December 22, 2014 | 120688
Miami-Dade | City of Sunny Isles Beach (14-04-4656P) | The Honorable Norman S. Edelcup, Mayor, City of Sunny Isles Beach, 18070 Collins Avenue, Sunny Isles Beach, FL 33160 | Government Center, 18070 Collins Avenue, Sunny Isles Beach, FL 33160 | http://www.msc.fema.gov/lomc | January 5, 2015 | 120688
Orange | City of Orlando (14-04-4627P) | The Honorable Buddy Dyer, Mayor, City of Orlando, P.O. Box 4990, Orlando, FL 32802 | Permitting Services Department, 400 South Orange Avenue, Orlando, FL 32801 | http://www.msc.fema.gov/lomc | January 9, 2015 | 120186
Orange | Unincorporated areas of Orange County (14-04-4627P) | The Honorable Teresa Jacobs, Mayor, Orange County, 201 South Rosalind Avenue, 5th Floor, Orlando, FL 32801 | Orange County Stormwater Management Department, 4200 South John Young Parkway, Orlando, FL 32839 | http://www.msc.fema.gov/lomc | January 9, 2015 | 120179
Polk | City of Winter Haven (14-04-4079P) | The Honorable Nathaniel Birdsong, Mayor, City of Winter Haven, 451 3rd Street Northwest, Winter Haven, FL 33881 | Engineering Services Division, 451 3rd Street Northwest, Winter Haven, FL 33881 | http://www.msc.fema.gov/lomc | January 5, 2015 | 120271
Sarasota | City of Sarasota (14-04-5350P) | The Honorable Willie Charles Shaw, Mayor, City of Sarasota, 1565 1st Street, Sarasota, FL 34236 | City Hall, 1565 1st Street, Sarasota, FL 34236 | http://www.msc.fema.gov/lomc | December 22, 2014 | 125150
Seminole | City of Altamonte Springs (14-04-7250P) | The Honorable Patricia Bates, Mayor, City of Altamonte Springs, 225 Newburyport Avenue, Altamonte Springs, FL 32701 | Public Library, 281 North Maitland, Altamonte Springs, FL 32701 | http://www.msc.fema.gov/lomc | December 26, 2014 | 120290
Seminole | City of Casselberry (14-04-5862P) | The Honorable Charlene Glancy, Mayor, City of Casselberry, 95 Triplet Lake Drive, Casselberry, FL 32707 | City Hall, 95 Triplet Lake Drive, Casselberry, FL 32707 | http://www.msc.fema.gov/lomc | January 9, 2015 | 120291
Georgia:
Columbia | Unincorporated areas of Columbia County (14-04-7278P) | The Honorable Ron C. Cross, Chairman, Columbia County Board of Commissioners, P.O. Box 498, Evans, GA 30809 | Stormwater Utility Department, 603 Ronald Reagan Drive, Building B, 2nd Floor, Evans, GA 30809 | http://www.msc.fema.gov/lomc | January 2, 2015 | 130059
Decatur | City of Bainbridge (14-04-1920P) | The Honorable Edward Reynolds, Mayor, City of Bainbridge, P.O. Box 158, Bainbridge, GA 39818 | City Hall, 107 Broad Street, Bainbridge, GA 39817 | http://www.msc.fema.gov/lomc | November 17, 2014 | 130204
Decatur | Unincorporated areas of Decatur County (14-04-1920P) | The Honorable Frank Loeffler, Chairman, Decatur County Board of Commissioners, P.O. Box 726, Bainbridge, GA 39818 | Decatur County Planning Department, 309 Airport Road, Bainbridge, GA 39817 | http://www.msc.fema.gov/lomc | November 17, 2014 | 130451
Fulton | Unincorporated areas of Fulton County (14-04-0878P) | The Honorable John Eaves, Chairman, Fulton County Board of Commissioners, 141 Pryor Street, Suite 10061, Atlanta, GA 30303 | Fulton County Office of Environment and Community Development, 141 Pryor Street, Suite 2085, Atlanta, GA 30303 | http://www.msc.fema.gov/lomc | January 12, 2015 | 135160
Gwinnett | City of Duluth (14-04-1324P) | The Honorable Nancy Harris, Mayor, City of Duluth, 3167 Main Street, Duluth, GA 30096 | Department of Planning and Development, 3578 West Lawrenceville Street, Duluth, GA 30096 | http://www.msc.fema.gov/lomc | November 24, 2014 | 130098
Montana: Ravalli | Unincorporated areas of Ravalli County (14-08-0632P) | The Honorable Greg Chilcott, Chairman, Ravalli County Board of Commissioners, 215 South 4th Street, Suite A, Hamilton, MT 59840 | Ravalli County Floodplain Map Repository, 215 South 4th Street, Suite A, Hamilton, MT 59840 | http://www.msc.fema.gov/lomc | January 19, 2015 | 300061
Nevada: Clark | City of Henderson (14-09-1585P) | The Honorable Andy A. Hafen, Mayor, City of Henderson, P.O. Box 95050, Henderson, NV 89009 | Public Works Department, 240 Water Street, Henderson, NV 89015 | http://www.msc.fema.gov/lomc | December 29, 2014 | 320005
North Carolina: Guilford | City of Greensboro (14-04-2255P) | The Honorable Nancy Vaughan, Mayor, City of Greensboro, P.O. Box 3136, Greensboro, NC 27402 | Central Library, 219 North Church Street, Greensboro, NC 27401 | http://www.msc.fema.gov/lomc | January 9, 2015 | 375351
Wyoming: Teton | Town of Jackson (14-08-0328P). | The Honorable Mark Barron, Mayor, Town of Jackson, P.O. Box 1687, Jackson, WY 83001 | Planner's Office, 150 East Pearl Street, Jackson, WY 83001 | http://www.msc.fema.gov/lomc | December 26, 2014 | 560052

[FR Doc. 2014-29014 Filed 12-10-14; 8:45 am]

BILLING CODE 9110-12-P